DEPARTMENT OF HEALTH AND HUMAN SERVICES

Notification Process for Availability of Test Tools and Test Procedures Approved by the National Coordinator for the ONC Health IT Certification Program IT Certification Program

AGENCY: Office of the National Coordinator for Health Information Technology (ONC), Department of Health and Human Services.

ACTION: Notice.

SUMMARY: This notice announces a change in the notification process for the availability of test tools and test procedures approved by the National Coordinator for Health Information Technology for the testing of health IT under the ONC Health IT Certification Program.

FOR FURTHER INFORMATION CONTACT: Alicia Morton, Director, ONC Health IT Certification Program, Office of the National Coordinator for Health Information Technology, 202-690-7151.

SUPPLEMENTARY INFORMATION: On January 7, 2011, the Department of Health and Human Services issued a final rule establishing a permanent certification program for the purposes of testing and certifying health information technology (“Establishment of the Permanent Certification Program for Health Information Technology,” (76 FR 1262) (“Permanent Certification Program final rule”)). The Permanent Certification Program was renamed the ONC HIT Certification Program in a final rule published on September 4, 2012 (77 FR 54163) (“2014 Edition final rule”), and subsequently renamed the ONC Health IT Certification Program (“Program”) in a final rule published on October 16, 2015 (80 FR 62601) (“2015 Edition final rule”). In the preamble ofthe Permanent Certification Program final rule, we stated that when the National Coordinator for Health Information Technology (National Coordinator) had approved test tools and test procedures for certification criteria adopted by the Secretary, ONC would publish a notice of availability in the Federal Register and identify the approved test tools and test procedures on the ONC Web site.

The public notification of the availability of approved test tools and test procedures is an operational aspect of the process ONC adopted in rulemaking for approving test tools and test procedures. To date, we have found that health IT stakeholders prefer to be notified via ONC's normal communication channels (listserv and Web site updates) and more frequently visit the ONC Health IT Certification Program's Web page for up-to-date Program information. Thus, to improve the efficiency and effectiveness of Program operations, ONC will now begin notifying the public of the availability of approved test tools and test procedures via our listserv. ONC will also continue to identify approved test tools and test procedures on the ONC Web site, including test data approved for the testing ofhealth IT under the Program (76 FR 1280 and 80 FR 32477). The new approach will enable ONC to more effectively and timely reach interested parties, particularly health IT developers. Health IT developers and other interested parties can sign up for the Program listserv at https://public. govdelivery.cornlaccounts/USHHSONC/subscriber/new?category id=USHHSONC C8.

Authority: 42 U.S.C. 300jj-11.

Dated: July 13, 2017.
Donald W. Rucker,
National Coordinator for Health Information Technology.

[FR Doc. 2017-15566 Filed 7-24-17; 8:45 am]

BILLING CODE 4150-45-P